DEPARTMENT OF THE INTERIOR

Bureau of Ocean Energy Management

[Docket No. BOEM-2017-0063]

Outer Continental Shelf, Alaska OCS Region, Beaufort Sea, Proposed Oil and Gas Lease Sale for 2019

AGENCY: Bureau of Ocean Energy Management, Interior.

ACTION: Call for information and nominations, reopening of comment period.

SUMMARY: The Bureau of Ocean Energy Management (BOEM) issued a Call for Information and Nominations (Call) in the Federal Register on March 30, 2018, covering a proposed sale in the Beaufort Sea Planning Area in late 2019, as included in the 2019-2024 National Outer Continental Shelf (OCS) Oil and Gas Leasing Draft Proposed Program, which BOEM announced on January 4, 2018. That notice had a comment period deadline of April 30, 2018. Several stakeholders have contacted BOEM and requested additional time to submit a comment. BOEM is reopening the comment period.

DATES: All nominations and comments submitted in response to this Call and extension must be received by BOEM no later than 11:59 p.m. Eastern Time on May 30, 2018. BOEM will consider submissions sent by mail as long as they are postmarked by the last day of the comment period.

ADDRESSES: Public Comment Submission Procedures: All public comments should be submitted through one of the following methods:

1. Federal eRulemaking Portal: http://www.regulations.gov. In the field entitled, “Search,” enter “BOEM-2017-0063” and then click “search.” Follow the instructions to submit public comments and view supporting and related materials available for this notice;

2. U.S. Postal Service or other delivery service to the following address: Chief, Leasing Section, BOEM, Alaska OCS Region, 3801 Centerpoint Drive, Suite 500, Anchorage, Alaska 99503-5823. Send your comments in an envelope clearly labeled, “Comments on the Call for Information and Nominations for Proposed 2019 Lease Sale in the Beaufort Sea Planning Area.”

Nominations/Indications of Industry Interest Submission Procedures: To ensure security and confidentiality of proprietary information to the maximum extent possible, please send nominations/indications of interest and other proprietary information to Chief, Leasing Section, BOEM, Alaska OCS Region, 3801 Centerpoint Drive, Suite 500, Anchorage, Alaska 99503-5823. Send your nominations in an envelope clearly labeled, “Nominations for Proposed 2019 Lease Sale in the Beaufort Sea Planning Area.”

FOR FURTHER INFORMATION CONTACT: Ms. Patricia LaFramboise, Chief, Leasing Section, Bureau of Ocean Energy Management, Alaska OCS Region, 3801 Centerpoint Drive, Suite 500, Anchorage, AK 99503, telephone (907) 334-5200.

SUPPLEMENTARY INFORMATION: The purpose of the Call published on March 30, 2018, (83 FR 13778) was to solicit industry nominations for areas of leasing interest and to gather comments and information on the area included in the Call for consideration in planning for this proposed OCS oil and gas lease sale. Because this lease sale is proposed to occur in 2019, and given the long lead time needed to prepare for a proposed sale, the planning process must begin now or the option of a lease sale in 2019 would be precluded. However, the Call is not a decision to lease and is not a prejudgment by the Secretary concerning any area that may be made available for leasing under the 2019-2024 National OCS Program. Please refer to the original Federal Register notice for additional information related to the Call for Information and Nominations.

1. Authority

This Call is published pursuant to the Outer Continental Shelf Lands Act (OCSLA), as amended (43 U.S.C. 1331-1356), and the implementing regulation at 30 CFR 556.301.

2. Protection of Privileged or Proprietary Information

BOEM will protect privileged or proprietary information that industry submits in accordance with the Freedom of Information Act (FOIA) and OCSLA requirements. To avoid inadvertent release of such information, all documents and every page containing such information should be marked with the statement, “Confidential—Contains Proprietary Information.” To the extent a document contains a mix of proprietary and nonproprietary information, the document should be clearly marked to indicate which portion of the document is proprietary and which is not. Exemption 4 of FOIA applies to trade secrets and commercial or financial information that you submit that is privileged or confidential. The OCSLA states that the “Secretary shall maintain the confidentiality of all privileged or proprietary data or information for such period of time as is provided for in this subchapter, established by regulation, or agreed to by the parties” (43 U.S.C. 1344(g)). BOEM considers nominations of specific blocks to be proprietary, and therefore BOEM will not release information that identifies any particular nomination with any particular party, so as not to compromise the competitive position of any participants in the process of indicating interest.

However, please be aware that BOEM's practice is to make all comments, including the names and addresses of individuals, available for public inspection. Before including your address, phone number, email address, or other personal identifying information in your comment, please be advised that your entire comment, including your personal identifying information, may be made publicly available at any time. In order for BOEM to withhold from disclosure your personal identifying information, you must identify any information contained in the submission of your comments that, if released, would constitute a clearly unwarranted invasion of your personal privacy. You must also briefly describe any possible harmful consequence(s) of the disclosure of information, such as embarrassment, injury or other harm. While you can ask us in your comment to withhold from public review your personal identifying information, we cannot guarantee that we will be able to do so. BOEM will make available for public inspection, in their entirety, all comments submitted by organizations and businesses, or by individuals identifying themselves as representatives of organizations or businesses.

Dated: May 7, 2018.
Walter D. Cruickshank,
Acting Director, Bureau of Ocean Energy Management.

[FR Doc. 2018-10012 Filed 5-9-18; 8:45 am]

BILLING CODE 4310-MR-P